FEDERAL RESERVE SYSTEM

Agency Information Collection Activities: Announcement of Board Approval Under Delegated Authority and Submission to OMB

SUMMARY:

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Chief, Financial Reports Section—Mary M. West—Division of Research and Statistics, Board of Governors of the Federal Reserve System, Washington, DC 20551 (202-452-3829) OMB Desk Officer—Alexander T. Hunt—Office of Information and Regulatory Affairs, Office of Management and Budget, New Executive Office Building, Room 3208, Washington, DC 20503 (202-395-7860).

Final Approval Under OMB Delegated Authority of the Extension for Three Years, Without Revision, of the Following Reports

1. Report title: Interagency Notice of Change in Control, Interagency Notice of Change in Director or Senior Executive Officer, and Interagency Biographical and Financial Report.

Agency form numbers: FR 2081a, FR 2081b, and FR 2081c.

OMB control number: 7100-0134.

Frequency: On occasion.

Reporters: Financial institutions and certain of their officers and shareholders.

Annual reporting hours: Interagency Notice of Change in Control—4,800 hours; Interagency Notice of Change in Director or Senior Executive Officer—150 hours; Interagency Biographical and Financial Report—5,100 hours; Total—10,050 hours.

Estimated average hours per response: Interagency Notice of Change in Control—30 hours; Interagency Notice of Change in Director or Senior Executive Officer—2 hours; Interagency Biographical and Financial Report—4 hours.

Number of respondents: Interagency Notice of Change in Control—160; Interagency Notice of Change in Director or Senior Executive Officer—75; Interagency Biographical and Financial Report—1,275. Small businesses are affected.

General description of report: This information collection is mandatory (12 U.S.C. 1817(j) and 12 U.S.C. 1831(i)) and is not given confidential treatment.

Abstract: In 1996 a Federal Financial Institutions Examination Council task force adapted, reformatted, and retitled the three reports, pursuant to the Riegle Community Development and Regulatory Improvement Act of 1994. The Federal Reserve uses the biographical portions of the collections to evaluate the competence, experience, character, and integrity of persons proposed as organizers, senior executive officers, directors, or principal shareholders. The financial portion is used to evaluate the financial ability of persons proposed as organizers, senior executive officers, directors, or principal shareholders. The reports are also used to allow or disapprove proposed acquisitions. The reporting forms allow applicants greater efficiency in the interagency application process including eliminating duplicative filings.

Final Approval Under OMB Delegated Authority of the Extension for Three Years, With Minor Revisions, of the Following Reports

1. Report title: The Weekly Report of Eurodollar Liabilities Held by Selected U.S. Addressees at Foreign Offices of U.S. Banks.

Agency form number: FR 2050.

OMB control number: 7100-0068.

Frequency: Weekly.

Reporters: Foreign branches and banking subsidiaries of U.S. depository institutions.

Annual reporting hours: 2,236 burden hours.

Estimated average hours per response: 1.0 hour.

Number of respondents: 43. Small businesses are not affected.

General description of report: This information collection is voluntary (12 U.S.C.§§ 248(a)(2), 353 et seq., 461, 602, and 625). Individual respondents data are confidential under section (b)(4) of the Freedom of Information Act (5 U.S.C. 552(b)(4)).

Abstract: The report collects data on Eurodollar deposits payable to nonbank U.S. addressees from foreign branches and subsidiaries of U.S. commercial banks and Edge and agreement corporations. The data are used for the construction of the Eurodollar component of the monetary aggregates and for analysis of banks' liability management practices.

Current Actions: The Federal Reserve will raise the reporting cutoff from a weekly average of $350 million to $500 million in Eurodollar liabilities.

2. Report title: The Quarterly Report of Assets and Liabilities of Large Foreign Offices of U.S. Banks.

Agency form number: FR 2502q.

OMB control number: 7100-0079.

Frequency: Quarterly.

Reporters: Large foreign branches and banking subsidiaries of U.S. depository institutions.

Annual reporting hours: 13,132 hours.

Estimated average hours per response: 3.5 hours.

Number of respondents: 938. Small businesses are not affected.

General description of report: This information collection is required (12 U.S.C.§§ 248(a)(2), 353 et seq., 461, 602, and 625) and is given confidential treatment (5 U.S.C. 552(b)(4)).

Abstract: The report collects gross assets and liability positions from foreign branches and subsidiaries of U.S. commercial banks and Edge and agreement corporations vis-a-vis individual countries. A separate schedule collects information on Eurodollar liabilities payable to certain U.S. addressees.

Current Actions: The Federal Reserve will add the European Central Bank to the country list. In addition, the instructions will be clarified to say that U.S. banks report only for subsidiaries that have a banking charter and are engaged in banking business.

Final Approval Under OMB Delegated Authority to Conduct, Without Revision, the Following Report

1. Report title: The Quinquennial Finance Company Questionnaire and Survey.

Agency form number: FR 3033p/s.

OMB control number: 7100-0277.

Frequency: One-time.

Reporters: Domestic finance companies.

Annual reporting hours: Questionnaire, 750 hours; Survey, 840 hours.

Estimated average hours per response: Questionnaire, 0.25 hours; Survey, 1.4 hours.

Number of respondents: Questionnaire, 3000; Survey, 600. Small businesses are affected.

General description of report: This information collection is voluntary (12 U.S.C. 225a, 263, and 353-359) and is given confidential treatment (5 U.S.C. 552(b)(4)).

Abstract: Since 1995 the Federal Reserve has conducted surveys of domestic finance companies every five years on consumer and business credit and on major assets and liabilities of finance companies. The first stage is a simple questionnaire (FR 3033p) which is sent to all domestic finance companies. The questionnaire asks for information on each company's total receivables, areas of specialization, and other characteristics. From the universe of FR 3033p respondents, the Federal Reserve will draw a stratified random sample for the survey itself (FR 3033s). The survey will request detailed information, as of June 30, 2000, from both sides of the respondents' balance sheet.

Final Approval Under OMB Delegated Authority to Conduct Two-One Time Surveys

1. Report title: Customer Satisfaction Survey of Federal Reserve Bulletin Subscribers, and Customer Satisfaction Survey of Publication Subscribers.

Agency form number: FR 1371; and FR 1372.

OMB Control number: 7100-0293.

Frequency: One-time.

Reporters: Federal Reserve Bulletin subscribers; and Federal Reserve publications subscribers.

Annual reporting hours: FR 1371, 100; and FR 1372, 100.

Estimated average hours per response: 0.25 hours per survey.

Number of respondents: 400 per survey. Small businesses are affected.

General description of report: This information collection is voluntary (12 U.S.C 248i). The individual date are not considered confidential.

Abstract: The Customer Satisfaction Survey of Federal Reserve Bulletin Subscribers (FR 1371) will solicit comments on the content and usefulness of the Federal Reserve's monthly Bulletin from a sample of subscribers. The staff is focusing on the Bulletin because the Board devotes substantial resources to this publication and will use the information from this survey to determine whether the Board should continue to publish the Bulletin in its current form. The Customer Satisfaction Survey of Publication Subscribers (FR 1372) will solicit comments on the quality of the customer service provided by the Board's Publications Services Department. The information will be used to assess whether the needs of the Board's subscribers are being met in a courteous and expeditious manner and whether changes should be made to the ordering and payment policies and processes in order to increase efficiency and customer satisfaction.

Discontinuation of the Following Report

1. Report title: Report of Medium Term Note Issuance.

Agency form number: FR 2600.

OMB control number: 7100-0245.

Effective Date: Friday, March 31, 2000.

Frequency: Monthly, quarterly, or semi-annually.

Reporters: U.S. firms filing SEC shelf registration statements for medium term notes.

Annual reporting hours: 94 burden hours.

Estimated average hours per response: 0.083 hours.

Number of respondents: 424. Small businesses are affected.

General description of report: This information collection is voluntary (15 U.S.C. §§ 225a and 353 et seq). Respondent data are not regarded as confidential.

Abstract: The FR 2600 collects information on the monthly volume of medium-term notes issued by corporations.

Current Actions: The Federal Reserve will discontinue the FR 2600. The report has become unnecessary because data are now obtained from the Depository Trust Corporation, a national clearing house that collects data on medium-term notes issued in the course of its business of clearing and settling securities and acting as trustee for holders of securities.

Board of Governors of the Federal Reserve System, March 20, 2000.
Jennifer J. Johnson,
Secretary of the Board.

[FR Doc. 00-7269 Filed 3-23-00; 8:45 am]

BILLING CODE 6210-01-P